COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds to the Procurement List commodities and services to be furnished by nonprofit agencies employing persons who are blind or have other severe disabilities.

EFFECTIVE DATE: October 1, 2001.

ADDRESSES: Committee for Purchase From People Who Are Blind or Severely Disabled, Jefferson Plaza 2, Suite 10800, Arlington, VA 22202-3259.

FOR FURTHER INFORMATION CONTACT: Louis R. Bartalot (703) 603-7740

SUPPLEMENTARY INFORMATION: On March 2, April 13, June 15, June 29, July 13, 2001 the Committee for Purchase From People Who Are Blind or Severely Disabled published notices (66 F.R.13041, 19136, 32598, 36741, 34611, 34612) of proposed additions to the Procurement List.

The following comments pertain to Microfilming, U.S. Bureau of the Census, Washington, D.C. Comments were received from a microfilming corporation. The commenter raised several issues in objecting to the Committee's proposal to add this microfilming service for the Bureau of the Census to the Procurement List.

The commenter first questioned the Committee's certification that the proposed addition to the Procurement List will not have a significant impact on a substantial number of small entities.

The commenter indicated that the proposed addition would have a severe impact on small business entities in the computer output archival microfilm industry. The commenter also indicated that this Procurement List addition would set a precedent for other Government microfilm conversion projects in the future.

The commenter did not provide any information to indicate how many small business entities would be affected by this Procurement List addition. Without this information, the Committee cannot conclude that a substantial number of small business entities would be adversely affected. Any negative impact would probably be countered by the positive impact on the two small nonprofit entities that will be performing the service. The Committee is required to conduct a separate rulemaking proceeding, including an adverse impact determination, for each Procurement List addition, so this addition cannot be a precedent for later additions.

The commenter also indicated that a fair market price for the microfilming service may only be determined by a competitive procurement. The Committee believes that its fair market pricing procedures, which include price negotiations between the Bureau of the Census and the producing nonprofit agencies, will result in a fair market price that will represent a best value to the Government.

The commenter questioned the capability of the nonprofit agencies to perform the service, noting that time is of the essence because of potential deterioration of the magnetic media in which the census information is being stored. The nonprofit agencies have been found technically capable of performing the service, and the Bureau of the Census has accepted this finding.

The commenter, in questioning the Committee's certification that the proposed Procurement List addition would not result in additional reporting, recordkeeping, or compliance requirements for entities other than the producing nonprofit agencies, asked the Committee to conduct a study of the relative merits of the commenter's microfilming method and the other commercially available microfilming process. The Committee does not think such a study is necessary to support the addition of this service to the Procurement List, as it will provide no information needed to support the Committee's determination that the service is suitable for addition to the Procurement List that would justify the cost and delay which a study would entail. Finally, the commenter asked the Committee to consider an alternative approach by expanding the Committee's program to include for-profit entities as employers of people with severe disabilities. To the extent this alternative would involve for-profit entities as program participants, it is prohibited by the Committee's statute, which limits participation to nonprofit agencies. However, these nonprofit agencies are encouraged to subcontract with for-profit entities to obtain goods and services that do not create work for people with severe disabilities. In this situation, the designated nonprofit agencies have communicated with the commenter as a possible subcontractor on this or other projects to be added to the Procurement List. Consequently, the Committee believes that it is complying with the commenter's alternative approach to the extent it is permitted to do so.

The following material pertains to all of the items being added to the Procurement List. After consideration of the material presented to it concerning capability of qualified nonprofit agencies to provide the commodity and services and impact of the additions on the current or most recent contractors, the Committee has determined that the commodity and services listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the commodity and services to the Government.

2. The action will not have a severe economic impact on current contractors for the commodity and services.

3. The action will result in authorizing small entities to furnish the commodity and services to the Government.

4. There are no known regulatory alternatives which would accomplish the objectives of the Javits-Wagner-O'Day Act (41 U.S.C. 46-48c) in connection with the commodity and services proposed for addition to the Procurement List.

Accordingly, the following commodity and services are hereby added to the Procurement List:

Commodities

Custom Planners & Accessory Kit

7510-00-NIB-0565

7510-00-NIB-0566

7510-00-NIB-0567

7510-00-NIB-0568

7510-00-NIB-0569

7510-00-NIB-0570

7510-00-NIB-0571

7510-00-NIB-0572

7510-00-NIB-0573

7510-00-NIB-0574

7510-00-NIB-0575

7510-00-NIB-0576

7510-00-NIB-0577

7510-00-NIB-0578

Services

Janitorial/Custodial, Minnesota Valley National Wildlife Refuge, Visitors Center, Bloomington, MN

Janitorial/Custodial, U.S. Fish & Wildlife Service, Santa Ana National Wildlife Refuge, Alamo, TX

Janitorial/Grounds Maintenance, U.S. Border Patrol Sector Headquarters, El Paso, TX

U.S. Border Patrol Station One, El Paso, TX

U.S. Border Patrol, Ysleta Border Patrol Station, El Paso, TX

U.S. Border Patrol, Ysleta Traffic Checkpoint, Highway 62/108, El Paso, TX

Laundry Service, Fort Lee, Fort Lee, VA

Mailing Services, Department of Energy, Argonne National Laboratory, Argonne, IL

Microfilming, U.S. Bureau of the Census, Washington, DC

This action does not affect current contracts awarded prior to the effective date of this addition or options that may be exercised under those contracts.

Sheryl D. Kennerly,
Director, Information Management.

[FR Doc. 01-22036 Filed 8-30-01; 8:45 am]

BILLING CODE 6353-01-P